NUCLEAR REGULATORY COMMISSION

10 CFR Part 73

[Docket Nos. PRM-73-15; NRC-2011-0251]

Installation of Radiation Alarms for Rooms Housing Neutron Sources

AGENCY: Nuclear Regulatory Commission.

ACTION: Petition for rulemaking; request for comment.

SUMMARY: The U.S. Nuclear Regulatory Commission (NRC or the Commission) has received a petition for rulemaking (PRM) dated September 15, 2011, from George Hamawy (the petitioner). The petitioner requests that the NRC require installation of radiation alarms in rooms housing neutron sources.

DATES: Submit comments by February 21, 2012. Comments received after this date will be considered if it is practical to do so, but the NRC is able to assure consideration only for comments received on or before this date.

ADDRESSES: Please include Docket ID NRC-2011-0251 in the subject line of your comments. For additional instructions on submitting comments and instructions on accessing documents related to this action, see “Submitting Comments and Accessing Information” in the SUPPLEMENTARY INFORMATION section of this document. You may submit comments by any one of the following methods:

• Federal rulemaking Web site: Go to http://www.regulations.gov and search for documents filed under Docket ID NRC-2011-0251. Address questions about NRC dockets to Carol Gallagher, telephone: (301) 492-3668; email: Carol.Gallagher@nrc.gov.

• Mail comments to: Secretary, U.S. Nuclear Regulatory Commission, Washington, DC 20555-0001, Attn: Rulemakings and Adjudications Staff.

• Email comments to: Rulemaking.Comments@nrc.gov. If you do not receive a reply email confirming that we have received your comments, contact us directly at (301) 415-1677.

• Hand deliver comments to: 11555 Rockville Pike, Rockville, Maryland 20852, between 7:30 a.m. and 4:15 p.m. Federal workdays (telephone: (301) 415-1677).

• Fax comments to: Secretary, U.S. Nuclear Regulatory Commission at (301) 415-1101.

FOR FURTHER INFORMATION CONTACT: Cindy Bladey, Chief, Rules, Announcements, and Directives Branch, Division of Administrative Services, Office of Administration, U.S. Nuclear Regulatory Commission, Washington, DC 20555-0001, telephone: (301) 492-3667, email: Cindy.Bladey@nrc.gov.

SUPPLEMENTARY INFORMATION:

I. Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov. The ADAMS accession number for the incoming petition for rulemaking is ML112700682.

• Federal Rulemaking Web Site: Public comments and supporting materials related to this petition for rulemaking can be found at http://www.regulations.gov by searching on Docket ID NRC-2011-0251.

II. Petitioner

Mr. George Hamawy works at Columbia University in New York City, Radiation Safety for Research. Mr. Hamawy is concerned about the security of neutron sources.

III. Petition

The petitioner states that the construction of sources used at colleges and universities for irradiating foils makes the sources an easy target for theft. The petitioner states:

The source is located at the end of a rod in the middle of a 55-gallon drum. The source is surrounded inside the drum by a plastic or wax shielding. The samples are lowered in holes next to the source for irradiation. The drum has a cover that can be easily removed and the source is taken out to be placed in a smaller drum for get away.

The petitioner explains that GTRI (the U.S. Department of Energy's Global Threat Reduction Initiative came) to the Columbia University facility and “placed wires around the drum and was attached to the wall.” The petitioner claims that “if someone wants to take the source they do not have to disturb the wire just remove the cover [of the drum] and take the source.”

The petitioner states that there is no current requirement to install radiation alarms in rooms containing neutron sources. The petitioner requests that the NRC require installation of radiation alarms that are connected to the Public Safety Department that can be triggered when a source is removed. The petitioner believes installation of the radiation alarms will be effective in preventing source removal. The petitioner is especially concerned with hostage situations where the intruder gains entry to the room housing the sources.

IV. Conclusion

The NRC is soliciting comments on the petition for rulemaking requesting that the NRC require installation of radiation alarms for rooms housing neutron sources.

Dated at Rockville, Maryland, this 1st day of December 2011.
For the Nuclear Regulatory Commission.
Annette Vietti-Cook,
Secretary of the Commission.

[FR Doc. 2011-31367 Filed 12-6-11; 8:45 am]

BILLING CODE 7590-01-P